DEPARTMENT OF JUSTICE

Notice of Settlement Agreement

In accordance with Departmental Policy, 28 CFR 50.7, notice is hereby given of a proposed settlement agreement in In re Jack R. Bennett, to obtain injunctive relief and impose civil penalties against Jack R. Bennett for alleged violations of Clean Water Act sections 301(a) and 404, 33 U.S.C. 1311, 13411, by discharging fill material without a permit into wetlands adjacent to the Neuse River in Goldsboro, North Carolina.

The proposed Settlement Agreement resolves these allegations by requiring Jack R. Bennett to restore the impacted area and to pay a civil penalty. The Department of Justice will accept written comments relating to this proposed Settlement Agreement for thirty (30) days from the date of publication of this Notice. Please address comments to Neal I. Fowler, Assistant United States Attorney, United States Attorney's Office, Terry Sanford Federal Building, 310 New Bern Avenue, Suite 800, Raleigh, North Carolina 27601-1461, and refer to In re Jack R. Bennett, United States District Court for the Eastern District of North Carolina, DJ # 90-5-1-1-18297.

The proposed Settlement may be viewed at http://www.usdoj.gov/enrd/Consent_Decrees.html.

Stephen Samuels,
Assistant Chief Environmental Defense Section, Environment & Natural Resources Division.

[FR Doc. E8-15504 Filed 7-10-08; 8:45 am]

BILLING CODE 4410-15-M